NUCLEAR REGULATORY COMMISSION

Advisory Committee on Nuclear Waste; Notice of Meeting

The Advisory Committee on Nuclear Waste (ACNW) will hold its 140th meeting on March 25-27, 2003, 11545 Rockville Pike, Rockville, Maryland.

The entire meeting will be open to public attendance.

The schedule for this meeting is as follows:

Tuesday, March 25, 2003, Conference Room T-2B3, 11545 Rockville Pike, Rockville, MD

Working Group on NRC and DOE Performance Assessments: Assumptions and Differences (Open)

10 a.m.-10:10 a.m.: Introductory Comments, Statement of Objectives and Overview (Open)—The Chairman will open the meeting and then turn it over to the Working Group Chairman who will state the objectives of the Workshop and provide an overview of the sessions.

The theme of the working group will be how to achieve appropriately credible and realistic performance assessment models for the proposed high-level waste repository at Yucca Mountain, NV. While the total scope of the performance assessments will be discussed, realism of the source term work will be emphasized because it will be a key driver in the performance of the proposed repository.

10:10 a.m.-10:50 a.m.: Keynote Presentation: Realism in Simulating Long-Term Waste Package Corrosion and Source Term (Open)—The Committee will hear a presentation and view on the development of a realistic source term by a distinguished expert.

11:10 a.m.-11:35 a.m.: Introduction to DOE's Total System Performance Assessment (TSPA) Model (Open)—The Committee will hear presentations by and hold discussions with a representative from DOE regarding the DOE's Total System Performance Assessment (TSPA).

11:35 a.m.-12 noon: Introduction to NRC's Total-System Performance Assessment (TPA) (Open)—The Committee will hear presentations by and hold discussions with representatives of the NRC's Office of Nuclear Material Safety and Safeguards (NMSS)/Division of Waste Management (DWM) regarding the Total-System Performance Assessment.

1 p.m.-2:20 p.m.: Overview of TSPA and TPA: Assumptions and Differences in Approach (Open)—The Committee will hear presentations and hold discussions with representatives of the NRC's NMSS/DWM and DOE on the overview of TSPA and TPA focusing on:

• Infiltration/tunnel dripping

• Source Term

• Near Field

• Unsaturated Zone

• Saturated Zone

• Biosphere and dose

3 p.m.-5 p.m.: Source Term Module (Open)—The Committee will hear presentations by and hold discussions with representatives from NRC's NMSS/DWM and DOE regarding the source term module.

5 p.m.-5:30 p.m.: Public Comments (Open)—The Committee will make time available for comments from the public.

Wednesday, March 26, 2003, Conference Room T-2B3, 11545 Rockville Pike, Rockville, Maryland

Working Group on NRC and DOE Performance Assessments: Assumptions and Differences (Open) (Continued)

8:30 a.m.-8:35 a.m.: Opening Statement (Open)—The Chairman will make opening remarks regarding the conduct of today's sessions.

8:35 a.m.-10:35 a.m.: Simplified Models of Key Contributors to Dose Traced through Various Modules (Open)—The Committee will hear presentations by and hold discussions with representatives of the NRC's NMSS/DWM and DOE regarding the key contributors as traced through various modules in TSPA and TPA, including:

• Infiltration/tunnel dripping

• Source Term

• Near Field

• Unsaturated Zone

• Saturated Zone

• Biosphere and dose

10:50 a.m.-12:45 p.m.: Presentations by representatives of the State of Nevada, Counties, Las Vegas Paiute Tribe, and Electric Power Research Institute (Open)—The Committee will hear presentations by and hold discussions with representatives of the State of Nevada, Counties, LasVegas Paiute Tribe, and Electric Power Research Institute regarding the working group on NRC and DOE performance assessments for the proposed high-level waste repository at Yucca Mountain, NV—assumptions and differences.

2:15 p.m.-3:15 p.m.: Working Group Roundtable Panel Discussion on TSPA and TPA: Assumptions and Differences (Open)—The Committee will have a roundtable panel discussion on the topics reviewed during the Working Group on NRC and DOE performance assessments for the proposed HLW repository at Yucca Mountain, NV—assumptions and differences.

3:15 p.m.-4:15 p.m.: Committee Summary Discussion (Open)—The Committee will summarize the day's discussion.

4:30 p.m.-5:20 p.m.: Public Comments (Open)—The Committee will summarize the major themes developed during the Working Group.

5:20 p.m.-5:30 p.m.: Closing Comments by Working Group Chairman (Open)—The Working Group Chairman will conclude the formal sessions with some brief remarks.

5:30 p.m.-6:15 p.m.: Preparation of ACNW Report (Open)—The Committee will discussed the principal points in a proposed ACNW report on TSPA/TPA Working Group.

Thursday, March 27, 2003, Conference Room 2B3, 11545 Rockville Pike, Rockville, Maryland

8:30 a.m.-8:35 a.m.: Opening Statement by the ACNW Chairman (Open)—The ACNW Chairman will make opening remarks regarding the conduct of today's sessions.

8:35 a.m.-9:10 a.m.: NRC/EPA Memorandum of Understanding (MOU) Related to Decommissioning and Decontainmination of Contaminated Sites (Open)—The Committee will hear presentations by and hold discussions with representatives of the NRC staff regarding this recent (October 2002) MOU between the NRC and the Environmental Protection Agency.

9:10 a.m.-9:45 a.m.: Discussion of Self-Assessment Survey Preliminary Results (Open)—The Committee will discuss the preliminary results of the self-assessment survey of the ACNW's recent activities.

10 a. m.-12 noon: ACNW Action Plan (Open)—The Committee members will discuss an update to the ACNW 2002-2003 Action Plan.

1 p.m.-2:45 p.m.: ACNW Action Plan (Open)—The Committee will continue discussions related to an update of ACNW 2002-2003 Action Plan.

2:45 p.m.-3 p.m.: Miscellaneous (Open)—The Committee will discuss matters related to the conduct of Committee activities and matters and specific issues that were not completed during previous meetings, as time and availability of information permit.

Procedures for the conduct of and participation in ACNW meetings were published in the Federal Register on October 11, 2002 (67 FR 63459). In accordance with these procedures, oral or written statements may be presented by members of the public, electronic recordings will be permitted only during those portions of the meeting that are open to the public, and questions may be asked only by members of the Committee, its consultants, and staff. Persons desiring to make oral statements should notify Mr. Howard J. Larson, ACNW (Telephone 301/415-6805), between 7:30 a.m. and 4 p.m. e.t., as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting notices, meeting transcripts, and letter reports are now available for downloading or viewing on the Internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. e.t., at least 10 days before the meeting to ensure the availability of this service. Individuals or organizations requesting this service will be responsible for telephone line charges and for providing the equipment and facilities that they use to establish the videoteleconferencing link. The availability of videoteleconferencing services is not guaranteed.

Dated: March 6, 2003.
Andrew L. Bates,
Advisory Committee Management Officer.

[FR Doc. 03-5869 Filed 3-11-03; 8:45 am]

BILLING CODE 7590-01-P